ENVIRONMENTAL PROTECTION AGENCY

[EPA-HQ-OPPT-2006-0343; FRL-8059-1]

Safer Detergents Stewardship Initiative; Notice of Public Meeting

AGENCY: Environmental Protection Agency (EPA).

ACTION: Notice.

SUMMARY: EPA is developing the Safer Detergents Stewardship Initiative (SDSI) to recognize companies, facilities, and others who voluntarily phase out or commit to phasing out the manufacture or use of nonylphenol ethoxylate surfactants (NPEs). These surfactants are used in detergents and in cleaning and other products. Both NPEs and their breakdown products, such as nonylphenol, can harm aquatic life. For more information on SDSI, see EPA's Web site: http://www.epa.gov/dfe/pubs/projects/formulat/sdsi.htm. EPA will hold a public meeting in Washington, DC on June 12, 2006, to discuss its plans for SDSI and to solicit stakeholder views on the initiative.

DATES: The meeting will be held on June 12, 2006, from 2 p.m. to 5 p.m.

Registration is encouraged on or before May 29, 2006. Registration will also be accepted at the meeting.

Requests to speak at the meeting must be received on or before May 29, 2006.

For information on access or services for individuals with disabilities, and to request accommodation of a disability, please contact the technical person listed under FOR FURTHER INFORMATION CONTACT at least 10 business days prior to the meeting.

ADDRESSES: The meeting will be held at the EPA Headquarters Bldg., 1201 Constitution Ave., NW., Washington DC 20460-0001.

For information on registration, requests to speak, and requests for accommodation of a disability, see Unit III. of the SUPPLEMENTARY INFORMATION.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Kathleen Vokes, Economics Exposure and Technology Division (7406M), Office of Pollution Prevention and Toxics, Environmental Protection Agency, 1200 Pennsylvania Ave., NW., Washington, DC 20460-0001; telephone number: (202) 564-9910; e-mail address: vokes.kathleen@epa.gov.

SUPPLEMENTARY INFORMATION:

I. General Information

A. Does this Action Apply to Me?

This action is directed to the public in general, and may be of particular interest to those companies who manufacture or use surfactants. Since other entities may also be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPPT-2006-0343; FRL-8059-1. Publicly available docket materials are available electronically at http://www.regulations.gov or in hard copy at the OPPT Docket in the EPA Docket Center (EPA/DC), EPA West, Rm. B102, 1301 Constitution Ave., NW., Washington, DC. The EPA Docket Center Public Reading Room is open from 8:30 a.m. to 4:30 p.m., Monday through Friday, excluding legal holidays. The telephone number for the Public Reading Room is (202) 566-1744, and the telephone number for the OPPT Docket is (202) 566-0280.

2. Electronic access. You may access this Federal Register document electronically through the EPA Internet under the “Federal Register” listings at http://www.epa.gov/fedrgstr.

II. Background

The proposed agenda for the SDSI meeting will cover the initiative's scope, participant benefits, and eligibility for recognition. The meeting is open to the public.

III. How Can I Request to Participate in this Meeting?

Submit your registration, request to speak, or request for accommodation of a disability, identified by docket ID number EPA-HQ-OPPT-2006-0343, to the technical person listed under FOR FURTHER INFORMATION CONTACT.

Do not submit any information considered Confidential Business Information (CBI).

Registration on or before May 29, 2006 is encouraged. However, registration will also be accepted at the meeting. Requests to speak at the meeting must be received on or before May 29, 2006.

Seating at the meeting will be on a first-come basis. Individuals requiring special accommodations at this meeting, including wheelchair access and assistance for the hearing impaired, should contact the technical person listed under FOR FURTHER INFORMATION CONTACT at least 10 business days prior to the meeting so that appropriate arrangements can be made.

List of Subjects

Environmental protection, Hazardous substances, Pollution prevention, Surfactants.

Dated: May 2, 2006.
Charles M. Auer,
Director, Office of Pollution Prevention and Toxics.

[FR Doc. E6-6921 Filed 5-5-06; 8:45 am]

BILLING CODE 6560-50-S